DEPARTMENT OF DEFENSE

Department of the Air Force

[Docket No. ARY-240628A-PL]

Notice of Intent To Grant an Exclusive Patent License

AGENCY: Department of the Air Force, Department of Defense.

ACTION: Notice of intent.

SUMMARY: Pursuant to the Bayh-Dole Act and implementing regulations, the Department of the Air Force hereby gives notice of its intent to grant an exclusive patent license agreement to Raider Technologies, LLC, a limited liability company of the State of Ohio, having a place of business at 526 Garden Road, Oakwood, OH 419.

DATES: Written objections must be filed no later than fifteen (15) calendar days after the date of publication of this Notice.

ADDRESSES: Submit written objections to Richard Mescher, Air Force Materiel Command Law Office, AFMCLO/JAZ, 2240 B Street, Room 260, Wright-Patterson AFB, OH 45433-7109; Facsimile: (937) 255-3733; or email: afmclo.jaz.tech@us.af.mil. Include Docket No. ARY-240628A-PL in the subject line of the message.

FOR FURTHER INFORMATION CONTACT: Richard Mescher, Air Force Materiel Command Law Office, AFMCLO/JAZ, 2240 B Street, Rm. 260, Wright-Patterson AFB, OH 45433-7109; Facsimile: (937) 255-3733; email: afmclo.jaz.tech@us.af.mil.

SUPPLEMENTARY INFORMATION: The Department of the Air Force intends to grant the partially exclusive patent license agreement for the invention described in: U.S. Patent Application Serial No. 17/761.326, filed September 19, 2020, and entitled “A Continuous-Phase Modulation Based Power Efficient Tunable Joint Radar/Communications System”.

Abstract of Patent Application

Systems, methods, and computer-readable storage media for generating and utilizing radar signals with embedded data are disclosed. Data is encoded onto a CPM waveform, which is then combined with a base radar waveform to produce a radar-embedded communication (REC) waveform. Both the CPM waveform and the base radar waveform may have a continuous phase and constant envelope, resulting in the REC waveform having a continuous phase and constant envelope. The changing (e.g., on a pulse-to-pulse basis) nature of the REC waveform causes RSM of clutter which may result in residual clutter after clutter cancellation, decreasing target detection performance of the radar system. In an aspect, various parameters may be utilized to dynamically adjust the performance of the radar system for a particular operating scenario, such as to enhance radar signal processing or enhance data communication capabilities.

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Authority: 35 U.S.C. 209; 37 CFR 404.

Tommy W. Lee,
Acting Air Force Federal Register Liaison Officer.

[FR Doc. 2024-15489 Filed 7-15-24; 8:45 am]

BILLING CODE 3911-44-P